DEPARTMENT OF LABOR

Employment and Training Administration

[TA-W-50,332]

Tetley USA, Inc., Williamsport, VA; Notice of Termination of Investigation

Pursuant to Section 221 of the Trade Act of 1974, as amended, an investigation was initiated on December 12, 2003 in response to a worker petition filed by a company official on behalf of workers at Tetley USA, Inc., Williamsport, Virginia.

The petitioner has requested that the petition be withdrawn. Consequently, the investigation has been terminated.

Signed at Washington, DC, this 27th day of January, 2003.
Linda G. Poole,
Certifying Officer, Division of Trade Adjustment Assistance.

[FR Doc. 03-4271 Filed 2-21-03; 8:45 am]

BILLING CODE 4510-30-P